DEPARTMENT OF ENERGY

Federal Energy Regulatory Commission

[Docket No. EL10-49-000]

Old Dominion Electric Cooperative; North Carolina Electric Membership Corporation, Complainants v. Virginia Electric and Power Company, Respondent; Notice of Complaint

March 23, 2010.

Take notice that on March 17, 2010, pursuant to section 206 of the Rules and Practice and Procedure, 18 CFR 385.206 and sections 206 and 306 of the Federal Power Act, 16 U.S.C. 824(e) and 825(e), Old Dominion Electric Cooperative and North Carolina Electric Membership Corporation (Complainants) filed a formal complaint against Virginia Electric and Power Company (Respondent) alleging that, Respondent's 2010 Annual Update to its formula rate is unjust, unreasonable, unduly discriminatory and preferential because Respondent has included in its 2010 Annual Transmission Revenue Requirement (ATRR) costs related to projects and facilities that are not appropriate for recovery in Respondent's wholesale transmission rates. Complainants request that the Commission direct Respondent to remove the challenged costs from its 2010 ATRR and from future Annual Updates; and to the extent necessary, initiate an evidentiary proceeding limited to a determination of the precise amount of costs for each project that should be removed from Respondent's transmission rates.

The Complainants states that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 6, 2010.

Kimberly D. Bose,
Secretary.

[FR Doc. 2010-6985 Filed 3-29-10; 8:45 am]

BILLING CODE 6717-01-P